DEPARTMENT OF HOMELAND SECURITY

Federal Emergency Management Agency

[Docket ID FEMA-2014-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Georgia: Fayette (FEMA Docket No.: B-1354) | Unincorporated areas of Fayette County (13-04-0476P) | The Honorable Steve Brown, Chairman, Fayette County Board of Commissioners, 140 Stonewall Avenue West, Suite 100, Fayetteville, GA 30214 | Fayette County Engineering Department, 140 Stonewall Avenue West, Suite 203, Fayetteville, GA 30214 | October 10, 2013 | 130432
New Mexico: Bernalillo (FEMA Docket No.: B-1354) | City of Albuquerque (13-06-2237P) | The Honorable Richard J. Berry, Mayor, City of Albuquerque, P.O. Box 1293, Albuquerque, NM 87103 | Development and Review Services Division, 600 2nd Street Northwest, Suite 201, Albuquerque, NM 87102 | October 3, 2013 | 350002
New York: Monroe (FEMA Docket No.: B-1349) | Village of Webster (13-02-0260P) | The Honorable John Cahill, Mayor, Village of Webster, 28 West Main Street, Webster, NY 14580 | Village Hall, 28 West Main Street, Webster, NY 14580 | December 3, 2013 | 360437
Pennsylvania:
Chester (FEMA Docket No.: B-1355) | Borough of West Chester (13-03-0592P) | The Honorable Carolyn T. Comitta, Mayor, Borough of West Chester, 401 East Gay Street, West Chester, PA 19380 | Department of Building, Housing and Code Enforcement, 401 East Gay Street, West Chester, PA 19380 | November 29, 2013 | 420292
| Township of East Bradford (13-03-0592P) | The Honorable Vincent M. Pompo, Chairman, Township of East Bradford Board of Supervisors, 666 Copeland School Road, West Chester, PA 19380 | East Bradford Township Hall, 666 Copeland School Road, West Chester, PA 19380 | November 29, 2013 | 420276
Crawford (FEMA Docket No. B-1355) | Township of Rockdale (13-03-1553P) | The Honorable Maxwell Ferris, Chairman, Township of Rockdale Board of Supervisors, 29393 Miller Station Road, Cambridge Springs, PA 16403 | Rockdale Township Hall, 29393 Miller Station Road, Cambridge Springs, PA 16403 | November 12, 2013 | 422394
Texas:
Bexar (FEMA Docket No.: B-1355) | City of San Antonio (12-06-3120P) | The Honorable Julian Castro, Mayor, City of San Antonio, P.O. Box 839966, San Antonio, TX 78283 | Department of Public Works, Storm Water Engineering, 1901 South Alamo Street, 2nd Floor, San Antonio, TX 78204 | November 14, 2013 | 480045
| City of San Antonio (13-06-0091P) | The Honorable Julian Castro, Mayor, City of San Antonio, P.O. Box 839966, San Antonio, TX 78283 | Department of Public Works, Storm Water Engineering, 1901 South Alamo Street, 2nd Floor, San Antonio, TX 78204 | November 21, 2013 | 480045
Comal (FEMA Docket No.: B-1354) | City of New Braunfels (13-06-2315P) | The Honorable Gale Pospisil, Mayor, City of New Braunfels, 424 South Castell Avenue, New Braunfels, TX 78130 | Municipal Building, 424 South Castell Avenue, New Braunfels, TX 78130 | November 14, 2013 | 485493
Dallas (FEMA Docket No.: B-1354) | Town of Highland Park (13-06-1142P) | The Honorable Joel T. Williams, III, Mayor, Town of Highland Park, 4700 Drexel Drive, Dallas, TX 75205 | Highland Park Public Works Department, 4700 Drexel Drive, Dallas, TX 75205 | September 27, 2013 | 480178
| Town of Highland Park (12-06-3367P) | The Honorable Joel T. Williams, III, Mayor, Town of Highland Park, 4700 Drexel Drive, Dallas, TX 75205 | Highland Park Public Works Department, 4700 Drexel Drive, Dallas, TX 75205 | October 11, 2013 | 480178
Denton (FEMA Docket No.: B-1354) | City of Denton (12-06-1709P) | The Honorable Mark A. Burroughs, Mayor, City of Denton, 215 East McKinney Street, Denton, TX 76201 | City Engineering Department, 901-A Texas Street, Denton, TX 76209 | November 20, 2013 | 480194
Denton (FEMA Docket No.: B-1355) | City of Highland Village (13-06-1723P) | The Honorable Patrick Davis, Mayor, City of Highland Village, 1000 Highland Village Road, Highland Village, TX 75077 | City Hall, 1000 Highland Village Road, Highland Village, TX 75077 | November 12, 2013 | 481105
Harris (FEMA Docket No.: B-1354) | City of Pearland (13-06-1986P) | The Honorable Tom Reid, Mayor, City of Pearland, 3519 Liberty Drive, Pearland, TX 77581 | 3519 Liberty Drive, Pearland, TX 77581 | November 14, 2013 | 480077
Tarrant (FEMA Docket No.: B-1355) | City of Arlington (13-06-2205P) | The Honorable Dr. Robert Cluck, Mayor, City of Arlington, P.O. Box 90231, Arlington, TX 76004 | City Hall, 101 West Abram Street, Arlington, TX 76010 | November 12, 2013 | 485454
| City of Arlington (12-06-3558P) | The Honorable Dr. Robert Cluck, Mayor, City of Arlington, P.O. Box 90231, Arlington, TX 76004 | City Hall, 101 West Abram Street, Arlington, TX 76010 | November 14, 2013 | 485454
Webb (FEMA Docket No.: B-1349) | City of Laredo (12-06-3255P) | The Honorable Raul G. Salinas, Mayor, City of Laredo, 1110 Houston Street, Laredo, TX 78040 | 1120 San Bernardo Avenue, Laredo, TX 78040 | October 17, 2013 | 480651
| Unincorporated areas of Webb County (12-06-3255P) | The Honorable Danny Valdez, Webb County Judge, 1000 Houston Street, 3rd Floor, Laredo, TX 78040 | Webb County, 1110 Washington Street, Suite 302, Laredo, TX 78040 | October 17, 2013 | 481059
Virginia: Richmond (FEMA Docket No.: B-1355) | Independent City of Richmond (13-03-1712X) | The Honorable Dwight C. Jones, Mayor, City of Richmond, 900 East Broad Street, Suite 201, Richmond, VA 23219 | Department of Public Works, 900 East Broad Street, Suite 704, Richmond, VA 23219 | November 12, 2013 | 510129

(Catalog of Federal Domestic Assistance No. 97.022, “Flood Insurance.”)

Dated: January 31, 2014.
Roy E. Wright,
Deputy Associate Administrator for Mitigation, Department of Homeland Security, Federal Emergency Management Agency.

[FR Doc. 2014-05313 Filed 3-11-14; 8:45 am]

BILLING CODE 9110-12-P